DEPARTMENT OF THE INTERIOR

Bureau of Land Management

[BLM_UT_FRN_MO4500169719; UTU-75392]

Notice of Proposed Withdrawal Extension, Public Meetings and Correction for Segments of the Colorado, Dolores, and Green River Corridors; Utah

AGENCY: Bureau of Land Management, Interior.

ACTION: Notice.

SUMMARY: At the request of the Bureau of Land Management (BLM), the Secretary of the Interior proposes to extend Public Land Order (PLO) No. 7618, which withdrew public lands from location and entry under the United States mining laws, subject to valid existing rights, to protect the recreational, scenic, cultural, riparian, and fish and wildlife values of the Colorado, Dolores, and Green River Corridors, for an additional 20-year term. Lands included in PLO No. 7618 have been surveyed or resurveyed and corrected. Their official land description has been changed, requiring that the land descriptions be modified and corrected to include lands that were inadvertently not listed in the original PLO. The acreage has been changed from 111,895 acres to 109,287 acres to reflect the updated land description. The land would remain closed to location and entry under the U.S. mining laws. This notice provides a 90-day public comment period and announces that the BLM will host one in-person public meeting in Moab and one virtual meeting regarding this proposal.

DATES: All comments must be received by March 13, 2024. The BLM will hold an in-person public meeting in connection with the proposed withdrawal extension on January 16, 2024, at the BLM Moab Field Office, 82 Dogwood Ave., Moab, Utah, from 5 to 6 p.m. Mountain Time (MT). The BLM will also hold a virtual public meeting in connection with the proposed withdrawal extension on January 18, 2024, at 6 to 7 p.m. Mountain Time (MT). The BLM will publish the date and instructions for access to the online public meeting in a local newspaper and any other additional information about the public meetings a minimum of 30 days prior to the meetings.

ADDRESSES: All comments should be sent to the BLM Utah State Office, Attn: Mary Higgins, 440 West 200 South, Suite 500, Salt Lake City, Utah 84101-1345 or by email at mhiggins@blm.gov.

FOR FURTHER INFORMATION CONTACT: David Pals, Field Manager, Moab Field Office by phone at 435-259-2100 or email at BLM_UT_MB_Comments@blm.gov, or at the address noted above. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The BLM submitted a petition/application to the Secretary of the Interior to extend the withdrawal of PLO No. 7618 (69 FR 59953) for an additional 20-year term, subject to valid existing rights. Some lands included in PLO No. 7618 have since been officially surveyed or resurveyed, and their official land descriptions have been changed, requiring that the land descriptions in the withdrawal extension application be modified. During the review it was also found that three lots were inadvertently left out of the original withdrawal. Lands that have been officially surveyed, resurveyed, or corrected are as follows:

(a) Colorado River

(1) T. 26 S, R. 20 E,

Sec. 13, lot 4.

(2) T. 26 S, R. 21 E,

Sec. 10;

Sec. 15, lot 4;

Sec. 16.

(b) Dolores River

(1) T. 23 S, R. 24 E,

Sec. 16, lot 1.

(c) Green River

(1) T. 22 S, R. 16 E,

Sec. 28.

(2) T. 13 S, R. 17 E,

Sec. 12 (B).

(3) T. 25 S, R. 17½ E,

Secs. 3, 4, 9, 10, 13 thru 16, 20 thru 25, 28, and 29.

The Secretary approved the BLM's petition; therefore, the request has become a Secretarial proposal for withdrawal extension. The updated legal description for the public lands proposed for the withdrawal extension are described as follows:

(a) Colorado River

Salt Lake Meridian, Utah

T. 26 S, R. 20 E,

Sec. 1, lot 1, lots 8 thru 14, SW¼NE¼, S½NW¼, and N½SW¼;

Sec. 12, lots 1, 2, and 3, SW¼NE¼, E½SE¼, and SW¼SE¼;

Sec. 13, lots 1, 2, and 4, and N½NE¼.

T. 25 S, R. 21 E,

Sec. 31, lots 4, 5, and 6, SE¼SW¼, and NW¼SE¼;

Sec. 33, NE¼NE¼;

Sec. 34, lots 6 thru 9, and SE¼SW¼.

T. 26 S., R. 21 E.,

Sec. 3, lot 2, lots 7 thru 12, and SW¼SE¼;

Sec. 5, lots 3 thru 6, lots 9 thru 12, SW¼NE¼, SE¼NW¼, and E½SW¼;

Secs. 6 and 7;

Sec. 8, lots 1 thru 8, E½NW¼, and E½SW¼;

Sec. 9, SE¼SE¼;

Sec. 10, lots 13 thru 22, NE¼SE¼, and SW¼SE¼;

Sec. 11, lots 4 and 5;

Sec. 15, lot 4, E½NW¼, E½SW¼, and SW¼SW¼;

Sec. 16, lot 8;

Sec. 17, lots 1 thru 9, E½NW¼, and SE¼SE¼;

Sec. 18, lots 1 thru 8, E½NE¼, SW¼NE¼, and E½SE¼;

Sec. 19, lots 1, 2, 3, and 5;

Sec. 20, lots 1 thru 6, and SE¼NW¼;

Sec. 21, lots 1 thru 8, SE¼NE¼, and NW¼NW¼.

T. 24 S, R. 22 E,

Sec. 25, lots 1 thru 4, NE¼, S½NW¼, and N½SW¼;

Sec. 26, lots 1 thru 6;

Sec. 27, lots 1 thru 8, and N½SW¼;

Sec. 28, lots 1 and 2, and SW¼SE¼;

Sec. 33, lots 1 thru 11, N½NW¼, and SE¼SW¼;

Sec. 34, N½NE¼ and N½NW¼;

Sec. 35, S½SW¼SW¼NE¼, S½SE¼SW¼NE¼, S½SW¼SE¼NE¼, S½SE¼SE¼NE¼, N½NW¼, SE¼NW¼, NE¼SW¼, and SE¼;

Sec. 36, lots 1 and 2.

T. 25 S, R. 22 E,

Sec. 3, S½SW¼ and W½SE¼;

Sec. 4, lots 4 and 5, W½SW¼, SE¼SW¼, and S½SE¼;

Sec. 5, lots 1, 2, and 3;

Sec. 8, lots 1 and 2;

Sec. 9, lots 1 thru 4, and N½NW¼;

Sec. 10, lots 1 thru 7, W½NE¼, and W½SE¼;

Sec. 15, lot 1, W½NE¼, NE¼NW¼, and S½NW¼;

Sec. 16, lots 1 thru 4, and N½SE¼;

Sec. 17, lots 1 thru 4;

Sec. 19, lots 1 thru 4, SE¼SW¼, and NE¼SE¼;

Sec. 20, lot 1, N½NE¼, NE¼NW¼, and SW¼NW¼;

Sec. 21, NW¼NW¼;

Sec. 30, lots 1 and 2.

T. 23 S, R. 23 E,

Sec. 12, SE¼SW¼ and S½SE¼;

Sec. 13;

Sec. 14, lots 1 thru 7, N½NE¼, SE¼NW¼, E½SW¼, and SE¼SE¼;

Sec. 23, lots 1 thru 6, SW¼NE¼, E½NW¼, and NW¼SE¼;

Sec. 24, lots 1 thru 9, S½NE¼, S½NW¼, and E½SW¼;

Sec. 25, lots 1 thru 10, SW¼NE¼, NE¼NW¼, W½SW¼, and E½SE¼;

Sec. 26, E½NE¼ and NE¼SE¼;

Sec. 34, SE¼NE¼, S½SW¼, and SE¼;

Sec. 35, lots 1, 2, and 3, S½NE¼, S½NW¼, SW¼, and N½SE¼;

Sec. 36, lots 1 thru 10, E½NE¼, NE¼NW¼, SW¼NW¼, N½SE¼, and SW¼SE¼.

T. 24 S., R. 23 E.,

Sec. 1;

Sec. 2, lots 2 thru 5, and lots 8 and 9;

Sec. 3;

Sec. 4, lots 1, 2, 6, and 7, S½NE¼, E½SW¼, and SE¼;

Sec. 5, lots 6 and 7, and W½SE¼;

Sec. 8, lots 1 thru 4, W½NE¼, E½SW¼, and W½SE¼;

Sec. 9;

Sec. 10, lots 1, 3, 4 and 8, SE¼NE¼, NW¼NW¼, and S½SE¼;

Sec. 11, N½, NE¼SW¼, S½SW¼, and SE¼;

Sec. 12, NW¼NE¼ and W½;

Sec. 13, N½NW¼, SW¼NW¼, and NW¼SW¼;

Sec. 14, N½, N½SW¼, and N½SE¼;

Sec. 15, NE¼, NE¼NW¼, S½NW¼, and S½;

Sec. 17, lots 1 thru 6, W½NE¼, E½NW¼, SW¼NW¼, and SW¼;

Sec. 18, lots 2, 3, and 4, S½NE¼, SE¼NW¼, E½SW¼, and SE¼.

Sec. 19;

Sec. 20, lots 1 thru 8, lots 12, 13, and 14, and N½NW¼;

Sec. 21, NW¼NE¼, W½, and W½SE¼;

Secs. 28 and 29;

Sec. 30, lots 1 thru 9, lots 11 and 12, SE¼NE¼, NE¼SE¼, and S½SE¼;

Sec. 31, lots 1, 2 and 3, N½NE¼, SW¼NE¼, E½NW¼, NE¼SW¼, and

NW¼SE¼.

T. 21 S., R. 24 E,

Sec. 22, lots 2, 3, 9, and 10, SW¼NW¼, and NW¼SW¼;

Sec. 23, lots 8 thru 12, and N½NE¼NW¼;

Sec. 26, lots 10 thru 15, and SW¼NE¼;

Sec. 27, lot 6 and SE¼NW¼;

Sec. 35, lots 9 thru 14.

T. 22 S., R. 24 E,

Sec. 2, lots 2 thru 6, and SE¼NW¼;

Sec. 3, lots 1, 2, and 3, and lots 5 thru 11;

Sec. 10, lots 1 thru 5, SE¼NW¼, and NE¼SE¼;

Sec. 11, lots 1 thru 9, and NW¼SW¼;

Sec. 14, lot 1, NW¼NE¼, and NE¼NW¼;

Sec. 15, lots 1 thru 11;

Sec. 16, lot 1 and NE¼SE¼;

Sec. 21, lots 1 thru 9, and NE¼SW¼;

Sec. 22, lots 1 and 2;

Sec. 33, SW¼SW¼.

T. 23 S., R. 24 E,

Sec. 5, lots 1 thru 4, lots 6 thru 11, SE¼NE¼, E½SW¼, and NE¼SE¼;

Sec. 8, lots 1, 2, 4, 5, and 10;

Sec. 17, lots 1 thru 4, S½NE¼, S½NW¼, N½SW¼, and SE¼;

Sec. 18;

Sec. 19, lots 1 and 2, NE¼, and E½NW¼;

Sec. 20, N½NE¼ and SE¼NE¼;

Sec. 30, lot 4;

Sec. 31, lots 1 thru 4, E½NW¼, and E½SW¼.

The areas described aggregate approximately 28,330 acres.

(b) Dolores River (including the half (½) of the river bottom adjacent to the Federal uplands to the middle thread of the river)

Salt Lake Meridian, Utah

T. 23 S., R. 24 E,

Sec. 1, S½SW¼ and S½SE¼;

Sec. 2, lots 5 and 6, SW¼SW¼, and SE¼SE¼;

Sec. 9, lots 1 thru 12, S½NE¼, and NE¼NW¼;

Sec. 10, lots 1 thru 11, NE¼NE¼, SW¼NE¼, NE¼SW¼, and SE¼SE¼;

Secs. 11 and 12;

Sec. 13, lots 1 thru 5, W½NE¼, N½NW¼, and W½SE¼;

Sec. 14, N½;

Sec. 15, lots 1 and 2, NE¼, E½NW¼, SW¼, and NW¼SE¼;

Sec. 16, lots 1, 5, 6, 10, 11 and 12, NW¼SW¼, and S½SE¼;

Sec. 21, NW¼NE¼, N½NW¼, SW¼NW¼, and NW¼SW¼;

Sec. 22, W½NE¼, NW¼, and NE¼SW¼.

T. 23 S, R. 25 E,

Sec. 7, lots 3 and 4, E½SW¼, and SW¼SE¼;

Sec. 16, SW¼;

Sec. 17, lots 1 thru 5, and lot 9;

Sec. 18, lots 3 thru 9, NW¼NE¼, S½NE¼, E½NW¼, NE¼SW¼, N½SE¼, and SE¼SE¼;

Sec. 19, lot 1;

Sec. 20, lots 1, 2, and 6, and SE¼NE¼;

Sec. 21;

Sec. 22, lots 1 thru 7, and E½SE¼;

Sec. 26, W½;

Sec. 27;

Sec. 28, NE¼, NE¼NW¼, and E½SE¼;

Sec. 33, E½;

Sec. 34

T. 24 S, R. 25 E,

Sec. 1, lots 6, 7, and 8, and NW¼SW¼;

Sec. 2, lots 3 thru 12, S½SW¼, and SW¼SE¼;

Sec. 3, lots 1 thru 5, SW¼NE¼, SE¼NW¼, and SE¼;

Sec. 9, NE¼SE¼ and S½SE¼;

Sec. 10, NE¼, SE¼NW¼, and S½;

Sec. 11, lot 1, NW¼NE¼, S½NE¼, N½NW¼, SW¼SW¼, N½SE¼, and SE¼SE¼;

Sec. 12;

Sec. 14, W½NW¼;

Sec. 15, NE¼ and E½NW¼.

T. 23 S, R. 26 E,

Sec. 31, SE¼;

Sec. 32, S½NE¼, S½NW¼, and S½;

Sec. 33, lots 3 and 4, and W½SW¼.

T. 24 S., R. 26 E.,

Sec. 4;

Sec. 5, lots 1 thru 4, S½NE¼, S½NW¼, NE¼SW¼, and SE¼;

Sec. 6, lots 1, 2, and 3, S½NE¼, S½NW¼, SW¼, N½SE¼, and SW¼SE¼;

Sec. 7, W½NE¼, SE¼NE¼, NW¼, and SE¼;

Sec. 8, SW¼NW¼ and W½SW¼;

Sec. 17, W½NW¼ and W½SW¼;

Sec. 18, E½NE¼ and E½SE¼;

Sec. 19, E½NE¼;

Sec. 20, W½;

Sec. 29, W½NE¼, E½NW¼, E½SW¼, and W½SE¼.

The areas described aggregate approximately 15,980 acres.

(c) Green River (including the half (½) of the river bottom adjacent to the Federal uplands to the middle thread of the river, in non-navigable sections)

Salt Lake Meridian, Utah

T. 15 S., R. 16 E.,

Sec. 1, E½, unsurveyed.

T. 17 S., R. 16 E.,

Sec. 21, SE¼;

Sec. 22, SW¼;

Sec. 26, N½SW¼ and SE¼;

Sec. 27, N½, SW¼, N½SE¼, and SW¼SE¼;

Sec. 28, E½;

Sec. 34, N½NE¼ and N½NW¼;

Sec. 35, E½, E½NW¼, and E½SW¼;

Sec. 36, SE¼.

T. 18 S., R. 16 E.,

Sec. 1, lots 1, 2, and 3, S½NE¼, SE¼NW¼, E½SW¼, and SE¼;

Sec. 12, lots 1, 2, and 3, W½NE¼, E½NW¼, NE¼SW¼, NW¼SE¼, and S½SE¼;

Sec. 25, lots 1, 2, and 3, S½NE¼, E½SW¼, and W½SE¼;

Sec. 36, lots 1 thru 4, W½NE¼, E½NW¼, E½SW¼, W½SE¼, and SE¼SE¼.

T. 19 S., R. 16 E.,

Sec. 1;

Sec. 2, lots 9 thru 15, N½SW¼, SW¼SW¼, and N½SE¼;

Sec. 3, SE¼SE¼, unsurveyed;

Sec. 10;

Sec. 11, lots 1 thru 4, N½NE¼, SW¼NE¼, SE¼NW¼, and W½SW¼;

Sec. 12, N½NW¼;

Sec. 14, lots 1 thru 6, E½NW¼, E½SW¼, and N½SE¼;

Sec. 15, lots 1 thru 5, W½NE¼, S½SW¼, NE¼SE¼, and W½SE¼;

Sec. 21, NE¼ and S½;

Sec. 22;

Sec. 23, N½NW¼;

Sec. 26, lots 1 thru 5, NW¼NW¼, SE¼NW¼, and E½SW¼;

Sec. 27, lots 1 thru 9, NE¼NE¼, NW¼NW¼, S½NW¼, NE¼SW¼, S½SW¼, and NW¼SE¼;

Sec. 28, NE¼ and N½NW¼;

Sec. 34;

Sec. 35, NW¼ and S½.

T. 20 S., R. 16 E.,

Sec. 3, lots 1 thru 5, and lots 8, 9, 10, and 12, SE¼NE¼, SW¼NW¼, NW¼SW¼, and E½SE¼;

Sec. 4, SE¼SW¼ and S½SE¼;

Sec. 10, lots 1, 6, and 8, E½NE¼, SW¼NE¼, and E½SW¼;

Sec. 17, lots 1, 2, and 3.

T. 21 S., R. 16 E.,

Sec. 27, lots 5, 6, and 8, NE¼NW¼, S½NW¼, and SW¼SE¼;

Sec. 28, lot 2;

Sec. 33, lot 1, SE¼NE¼, and NE¼SE¼;

Sec. 34, lots 5 and 6, SW¼NW¼, N½SW¼, and SW¼SE¼;

Sec. 35, W½SW¼.

T. 22 S., R. 16 E.,

Sec. 3, lots 13, 18, 22, and 23;

Sec. 5, lots 13 and 18;

Sec. 9, SW¼SW¼;

Sec. 16, lots 1, 5, 8, 9, and 10;

Sec. 17, lots 1, 2, and 3, and S½NE¼;

Sec. 21, lots 1, 4, 5, 8, and 9, E½NE¼, SW¼SW¼, and E½SE¼;

Sec. 25, W½SW¼;

Sec. 26, S½;

Sec. 27, lots 1 thru 10, lot 13, and SW¼NW¼;

Sec. 28, lots 1, 2, 5, 12, 13, and 14, E½NE¼, W½NW¼, W½SW¼, and NE¼SE¼;

Sec. 33, lots 1 and 2, N½NW¼;

Sec. 34, lots 1, 5, 6, 7, and 10, and SE¼SE¼;

Sec. 35, W½NW¼.

T. 23 S., R. 16 E.,

Sec. 3, lots 2, 4, 5, and 6, lots 8 thru 12, lot 14, SW¼NW¼, W½SW¼, SE¼SW¼, and NE¼SE¼;

Sec. 10, N½NE¼, N½NW¼;

Sec. 11, lots 1, 3, 6, 8, 9, 10, 11 and 14, and NW¼NW¼;

Sec. 12, NW¼SW¼ and SE¼SW¼;

Sec. 13, lots 6, 7, and 10, NW¼NE¼, and E½SE¼;

Sec. 14, N½NE¼ and NE¼NW¼;

Sec. 23, lots 1, 2, and 3, NE¼NE¼, SW¼NE¼, SE¼NW¼, and E½SW¼;

Sec. 24, lots 1, 5, and 6, E½NE¼, NE¼SW¼, and NW¼SE¼;

Sec. 25, lot 8;

Sec. 26, SW¼NE¼.

T. 24 S., R. 16 E.,

Sec. 1, lots 5 thru 8, and SE¼NE¼;

Sec. 11, SE¼SE¼;

Sec. 12, lots 1 thru 8, SE¼NE¼, SW¼NW¼, and NW¼SE¼;

Sec. 13, lots 1 thru 8, NW¼SE¼, and SE¼SE¼;

Sec. 14, E½NE¼;

Sec. 23, lots 1 thru 6, NW¼NE¼, SE¼NW¼, E½SW¼, and SW¼SE¼;

Sec. 24, lots 1 thru 10, and NW¼SE¼;

Sec. 25, lots 1 thru 7.

T. 25 S., R. 16 E.,

Sec. 1, lots 1, 2, and 3, lots 5 thru 9, SE¼NW¼, and NE¼SW¼.

T. 26 S., R. 16 E.,

Sec. 23, S½SE¼, unsurveyed;

Sec. 24, S½, unsurveyed;

Sec. 25, N½NE¼ and NW¼, unsurveyed;

Sec. 26, NE¼, S½NW¼, SW¼, and W½SE¼, unsurveyed;

Sec. 27, S½SE¼, unsurveyed;

Sec. 33, SE¼, unsurveyed;

Sec. 34, unsurveyed.

T. 12 S., R. 17 E.,

Sec. 24, SE¼;

Sec. 25 (A), unsurveyed;

Sec. 26 (A), unsurveyed;

Sec. 27 (A), excluding W½NW¼ and W½SW¼, unsurveyed;

Sec. 34 (A), excluding W½NW¼ and W½SW¼, unsurveyed;

Sec. 35 (B), unsurveyed;

Sec. 36 (B), unsurveyed.

T. 13 S., R. 17 E.,

Sec. 1 (B), unsurveyed;

Sec. 2 (A), unsurveyed;

Sec. 3, excluding W½NW¼ and W½SW¼, unsurveyed;

Sec. 10 (A), excluding N½NE¼, NW¼, and W½SW¼, unsurveyed;

Sec. 11 (A), excluding NW¼NW¼, unsurveyed;

Sec. 15 (A), excluding NW¼NW¼, unsurveyed;

Sec. 16, E½SE¼;

Sec. 21, E½NE¼, unsurveyed;

Sec. 22 (A), excluding SW¼SW¼, unsurveyed;

Sec. 23 (B), unsurveyed;

Sec. 26 (B), unsurveyed;

Sec. 27, E½, E½NW¼, and E½SW¼, unsurveyed;

Sec. 33 (A), excluding W½, unsurveyed;

Sec. 34 (A), unsurveyed;

Sec. 35 (B), unsurveyed.

T. 14 S., R. 17 E.,

Sec. 3 (B), unsurveyed;

Sec. 4 (A), excluding W½, unsurveyed;

Sec. 9 (A), excluding NW¼, N½SW¼, and SW¼SW¼, unsurveyed;

Sec. 10 (B), unsurveyed;

Sec. 16 (A), unsurveyed;

Sec. 17 (A), excluding N½NE¼, SW¼NE¼, and W½, unsurveyed;

Sec. 20 (A), excluding W½, unsurveyed;

Sec. 21 (B), unsurveyed;

Sec. 28 (B), unsurveyed;

Sec. 29 (A), excluding N½NW¼, unsurveyed;

Sec. 32 (A), unsurveyed.

T. 15 S., R. 17 E.,

Sec. 5 (A), unsurveyed;

Sec. 6, unsurveyed;

Sec. 7, lot 4, N½NE¼, SW¼NE¼, W½SE¼, and SE¼SE¼;

Sec. 8, lot 5 and N½NW¼;

Sec. 16 (B), unsurveyed;

Sec. 17 (A), unsurveyed;

Sec. 18, N½, unsurveyed;

Sec. 20, E½NE¼ and E½SE¼, unsurveyed;

Sec. 21 (A), unsurveyed;

Sec. 28 (A), excluding SW¼NW¼ and NW¼SW¼, unsurveyed;

Sec. 33 (A), unsurveyed.

T. 16 S., R. 17 E.,

Sec. 3 (B), unsurveyed;

Sec. 4 (A), unsurveyed;

Sec. 5, SE¼, unsurveyed;

Sec. 8, NE¼, unsurveyed;

Sec. 9 (A), excluding SW¼, unsurveyed;

Sec. 10 (B), unsurveyed;

Sec. 16, lots 1 thru 4, W½NE¼, and W½SE¼;

Sec. 21 (A), excluding W½, unsurveyed;

Sec. 22 (B), unsurveyed;

Sec. 27 (A), unsurveyed;

Sec. 28, E½NE¼ and E½SE¼, unsurveyed;

Sec. 33 (A), excluding W½NE¼, W½, and W½SE¼, unsurveyed;

Sec. 34 (B), unsurveyed;

Sec. 34 (C), unsurveyed.

T. 17 S., R. 17 E.,

Sec. 3, lot 5;

Sec. 4, lots 1, 2, 5, 6, 9, 10, and 11;

Sec. 9, lots 1, 2, 4, and 5, SW¼NE¼, NE¼SW¼, S½SW¼, and W½SE¼;

Sec. 16, lots 2 thru 5, lots 10 and 11, and NW¼NW¼;

Sec. 17, SE¼;

Sec. 19, lots 3 and 6, S½NE¼, and NW¼SE¼;

Sec. 20, lots 1, 2, 3, 6, 7, 8, 11, and 12, NW¼NE¼, and NW¼;

Sec. 21, lot 3;

Sec. 29, lots 2 and 5;

Sec. 30, lots 1, 4, and 7, W½NE¼, SE¼NE¼, and W½SE¼;

Sec. 31, lot 2, and lots 4 thru 8, W½NE¼, E½NW¼, E½SW¼, NE¼SE¼, and W½SE¼;

Sec. 32, lots 3, 4, 7, 8, and 9.

T. 18 S., R. 17 E.,

Sec. 6, lots 3 thru 6, and lots 9 and 10;

Sec. 7, lots 5, 6, and 7;

Sec. 18, lots 2, 3, 4, 6, 9, 12, and 13, SW¼NE¼, NE¼NW¼, SE¼SW¼, and NW¼SE¼;

Sec. 19;

Sec. 20, lots 1 and 2, W½NW¼, SE¼NW¼, E½SW¼, and SW¼SE¼, excluding Uintah Reservation as per P.L. 80-440; Secs. 29, 30, and 31;

Sec. 32, NW¼NW¼, S½NW¼, N½SW¼, and NW¼SE¼.

T. 24 S., R. 17 E.,

Sec. 6;

Sec. 18, lot 4 and SE¼SW¼;

Sec. 19, lots 1 thru 9, lots 11, 12, and 13, E½NE¼, and NE¼SE¼;

Sec. 30, lots 1 thru 5, NW¼NE¼, SE¼NW¼, and E½SW¼;

Sec. 31, lots 1 thru 13.

T. 25 S., R. 17 E.,

Sec. 5, unsurveyed;

Sec. 6, excluding S½SW¼, unsurveyed;

Sec. 7, NE¼, unsurveyed; Secs. 8, 9, 16, and 17, unsurveyed;

Sec. 19, E½, unsurveyed; Secs. 20 thru 23, and secs. 26 and 27, unsurveyed;

Sec. 28, excluding SW¼SW¼, unsurveyed;

Sec. 29, excluding S½SW¼ and S½SE¼, unsurveyed;

Sec. 30, NE¼ and N½SE¼, unsurveyed;

Sec. 31, SE¼, unsurveyed;

Sec. 32, lots 1, 2, and 3, S½SW¼, and NW¼SE¼; Secs. 33, 34, and 35, unsurveyed.

T. 26 S., R. 17 E., Secs. 2, 3, and 4, unsurveyed;

Sec. 5, E½, unsurveyed;

Sec. 10, unsurveyed;

Sec. 11, excluding SW¼, unsurveyed;

Sec. 12, unsurveyed;

Sec. 13, excluding N½NW¼, SW¼NW¼, and W½SW¼, unsurveyed;

Sec. 15, W½, unsurveyed;

Sec. 16, N½NE¼, SE¼NE¼, NE¼NW¼, NE¼SE¼SW¼, S½SE¼SW¼, and SE¼;

Sec. 17, S½SW¼ and S½SE¼, unsurveyed;

Sec. 18, S½SW¼ and S½SE¼, unsurveyed; Secs. 19 and 20, unsurveyed;

Sec. 21, N½, unsurveyed;

Sec. 23, E½SE¼, unsurveyed;

Sec. 24, excluding W½NW¼, unsurveyed;

Sec. 25, unsurveyed;

Sec. 26, excluding NW¼NE¼ and N½NW¼, unsurveyed;

Sec. 27, excluding N½NE¼ and N½NW¼, unsurveyed; Secs. 34 and 35, unsurveyed.

T. 25 S., R. 17 ½ E.,

Sec. 3, lots 11 thru 16 and SE¼NW¼;

Sec. 4, lots 4 and 5, and lots 9 thru 21; Secs. 5 and 6, unsurveyed;

Sec. 9;

Sec. 10, lots 1, 2, and 3, SE¼NW¼, and SW¼;

Sec. 13, SW¼ and SW¼SE¼;

Sec. 14, lots 1, 2, and 3, N½SW¼, SW¼SW¼, and N½SE¼;

Sec. 15, W½NW¼ and W½SW¼;

Secs. 16, 20, and 21;

Sec. 22, lots 1 thru 6, E½NW¼, N½SW¼, and N½SE¼;

Sec. 23;

Sec. 24, lots 1 thru 4, W½NE¼, NE¼NW¼, and SE¼;

Sec. 25;

Sec. 27, unsurveyed;

Sec. 28, lots 1, 2, and 3;

Sec. 28 (B), unsurveyed;

Sec. 29;

Secs. 33 and 34, unsurveyed;

Sec. 35, excluding SE¼SE¼, unsurveyed;

Sec. 36, lots 1, 2, and 3, N½NE¼, SW¼NE¼, and N½SW¼.

T. 26 S., R. 17½ E.,

Sec. 1, excluding N½NE¼, and N½NW¼, unsurveyed;

Sec. 2, excluding E½NE¼, unsurveyed;

Secs. 3, 4, 11, 12, 13, 23, and 24, unsurveyed;

Sec. 25, NW¼, unsurveyed;

Secs. 26, 27, and 28, unsurveyed;

Sec. 34, excluding Canyonlands National Park, unsurveyed;

Sec. 35, excluding Canyonlands National Park, unsurveyed.

The areas described aggregate approximately 64,977 acres.

Aliquot parts of unsurveyed sections are only approximate until such time as the section containing them is officially surveyed and marked on the ground in accordance with the Manual of Surveying Instructions, at which point they will become fixed.

The total areas described in (a), (b), and (c) aggregate approximately 109,287 acres.

For a period until March 13, 2024, all persons who wish to submit comments, suggestions, or objections in connection with this proposed withdrawal extension may present their views in writing to the BLM Utah State Director at the address indicated above.

Before including your address, phone number, email address, or other personal identifying information in your comment, be aware that your entire comment—including your personal identifying information—may be made publicly available at any time. While you can ask the BLM in your comment to withhold your personal identifying information from public review, we cannot guarantee that BLM will be able to do so.

The withdrawal extension proposal will be processed in accordance with the regulations set forth in 43 CFR 2300.

(Authority: 43 U.S.C. 1714)

Gregory Sheehan,
Utah State Director.

[FR Doc. 2023-27468 Filed 12-13-23; 8:45 am]

BILLING CODE 4331-25-P